DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 26, 2010 through May 7, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-72,943: General Motors, LLC, f/n/s General Motors Corporation, Hamtramck Assembly Plant, Detroit, MI: November 23/2008

TA-W-73,294: Elizabeth Carbide Die Co., McKeesport, PA: January 5, 2009.

TA-W-73,358: Red Wing Shoe Company, Inc., Danville, KY: January 15/2009

TA-W-71,503A: ArcelorMittal USA Inc., Long Products Division, Leased Workers of Adecco, East Chicago, IN: June 29/2008

TA-W-71,503B: ArcelorMittal USA Inc., Indiana Harbor East Division, Leased Workers of ACMS, Adecco, Advansys, etc., East Chicago, IN: June 29, 2008

TA-W-71,558: Atlas Pressed Metals, Leased Workers from Spherion, DuBois, PA: June 18, 2008

TA-W-71,652: Cooper Tools, Hicksville, OH: July 13, 2008

TA-W-71,928: Broward Casting Foundry, Ft. Lauderdale, FL: August 4, 2009

TA-W-71,956: Anvil International, Inc., Beck Manufacturing, Aurora, OH: July 22, 2008

TA-W-72,149: Knight Celotex, LLC, A Subsidiary of Knight Industries, LLC, Lisbon Falls, ME: August 22, 2008

TA-W-72,177: Heus Manufacturing, LLC, New Holstein, WI: August 19, 2008

TA-W-72,187: Accuride—Cuyahoga Falls, Aluminum Wheels Div., Adecco, Cuyahoga Falls, OH: August 31, 2008

TA-W-72,226: NSI International Inc., Leased Workers from the Creative Group, Farmingdale, NY: June 28, 2009

TA-W-72,328: Summit Machine, Inc., Shoreview, MN: September 15, 2008

TA-W-72,516: Phoenix Engineering Corp., Baldwin, WI: October 5, 2008

TA-W-72,540: Komatsu Forest, LLC, A Subsidiary of Komatsu Forest, AB, Shawano, WI: September 25, 2008

TA-W-72,870: Boise Cascade, LLC, Oakdale, LA: November 16, 2008

TA-W-72,880: Intermet—Archer Creek, Intermet Corporation, Lynchburg, VA: July 10, 2009

TA-W-73,100: Superior Tire and Rubber Corporation, Leased Workers from Accent Human Resources, Warren, PA: November 30, 2008

TA-W-73,206: Smurfit-Stone Container Corporation, Containerboard Mill, Ontonagon, MI: December 18, 2008

TA-W-73,247: Mercer Tool Corporation, St. Marys, OH: January 6, 2009

TA-W-72,576: Alpha Polishing, Inc., dba General Plating Co. and Brite Plating, Inc., Los Angeles, CA: October 12, 2008

TA-W-72,807: E.T. Lowe Publishing Company, Nashville, TN: November 5, 2008

TA-W-72,514: Metal Creations, Div. Carsons, Inc., Bradley Personnel, Recruiting, High Point, NC: October 6, 2008

TA-W-71,003: Endless Summer, Inc., dba Alroe Apparel, Springfield, MO: May 20, 2008

TA-W-72,121: General Motors Company, Technical Center, Leased Workers of Aerotek, Bartech Group, CDI Professional, Warren, MI: August 14, 2008

TA-W-72,141: C.R. Laine Furniture, Hickory, NC: 8/20/2008

TA-W-72,212: General Motors Company, f/n/a General Motors Corporation, Bowling Green Assembly Plant, Bowling Green, KY: August 31, 2008

TA-W-72,375: Commercial Furniture Group, Inc., f/k/a Falcon Products and Shelby Williams, Morristown, TN: September 21, 2008

TA-W-72,861: Stanley Furniture Company, Inc., Including On-site Leased Workers from Americastaff Employment and Staffing, Stanleytown, VA: November 16, 2008

TA-W-73,414: Russell Brands, LLC, Columbus Distribution Center, Fruit of the Loom, Midland, GA: January 29, 2009

TA-W-73,415: Russell Brands, LLC, A Subsidiary of Fruit of the Loom, Reno, NV: January 29, 2009

The following certifications have been issued. The requirements of Section 222(a)(2)(B) (shift in production or services) of the Trade Act have been met.

TA-W-71,694: Arcelor Mittal, f/n/a Mittal Steel Walker Wire, Leased Workers from Leasing Systems, Ferndale, MI: July 15, 2008

TA-W-71,058: WellPoint, Inc., DBA Anthem Blue Cross Blue Shield of VA, Leased Workers Bender Consulting etc., Richmond, VA: June 5, 2008

TA-W-71,501A: Sony Electronics, Inc., Leased Workers of Selectremedy, Staffmark, San Jose, CA: June 22, 2008

TA-W-71,501B: Sony Electronics, Inc., Leased Workers Willstaff, Danco Industrial Contractors etc., Dothan, AL: June 22, 2008

TA-W-71,501C: Sony Electronics, Inc., Leased Workers Selectremedy, Itasca, IL: 6/22/2008

TA-W-71,501: Sony Electronics, Inc., SEL Headquarters, Leased Workers of Selectremedy, Staffmark, San Diego, CA: 6/22/2008

TA-W-72,005: Decca Classic Upholstery, LLC, High Point, NC: August 10, 2008

TA-W-72,010: Vesuvius USA, FKA Foseco Metallurgical, Inc., Cookson Group, PLC, Conneaut, OH: August 10, 2008

TA-W-72,171A: Hawker Beechcraft Corporation, Salina, KS: August 27, 2008

TA-W-72,689: Freescale Semiconductor, Inc., Hardware/Software Design and Manufacturing A, Austin, TX: October 19, 2008

TA-W-72,981: TEVA Pharmaceuticals, IVAX Division, Congers, NY: November 20, 2009

TA-W-73,144: Trimble Navigation, Ltd., Corvallis, OR: December 16, 2008

TA-W-73,147: Shaw Fabricator, Addis, LA: December 22, 2008

TA-W-73,167: Veeco Process Equipment, Inc., Mechanical Process Equipment Division, Leased Workers from Aerotek, Camarillo, CA: December 24, 2008

TA-W-73,259: PPG Industries, Inc., Working on Site at New United Motor Manufacturing, Fremont, CA: January 12, 2009

TA-W-73,307: Simclar International Corporation, Kenosha, WI: January 14, 2009

TA-W-73,317A: Sappi Fine Paper N.A., SPPI Ltd., Leased Workers from Alternative Solutions, Manpower and Adecco, Westbrook, ME: January 20, 2009

TA-W-73,321: Associated Spring, Central Lake, Barnes Group, Leased Workers from Manpower, Inc., Central Lake, MI: January 19, 2009

TA-W-73,332: Mine Safety Appliances (MSA), Murrysville-Soft Goods, Leased Workers from Advantage Technical Resourcing, Murrysville, PA: 1/21/2009

TA-W-73,391: Dakkota Integrated Systems, LLC, New United Motor Mfg., Leased Workers from Nelson Staffing, Freemont, CA: January 25, 2009

TA-W-73,411: MAPA Spontex, Inc., Total, S.A., Leased Workers from Express Employment Professionals, Columbia, TN: February 2, 2009

TA-W-73,417: TimeMed Labeling Systems, Inc., A Subsidiary of Precision Dynamics Corporation, Burr Ridge, IL: February 1, 2009

TA-W-73,418: TimeMed Labeling Systems, Inc., A Subsidiary of Precision Dynamics Corporation, Dallas, TX: February 1, 2009

TA-W-73,463: Work-Fit, Inc., New United Motor Manufacturing, Inc., Fremont, CA: February 4, 2009

TA-W-73,468: Emerson Network Power, Energy Systems, Leased Workers from Express Employment Professionals etc., LaGrange, GA: January 27, 2009

TA-W-73,546: Beiersdorf, Inc., Leased Workers from First Temp, Inc., Norwalk, CT: February 18, 2009

TA-W-73,665: Peek Traffic Corporation, Signal Division, Bedford, PA: March 8, 2009

TA-W-73,666: Badger Meter, Inc., Including On-Site Leased Workers from Sourcepoint Staffing, Milwaukee, WI: February 22, 2009

TA-W-73,671: Vygon US LLC, A Wholly Owed Subsidiary of Vygon Corporation, NKA Sophysa SA, Norristown, PA: February 26, 2009

TA-W-73,701: Acuity Brands Lighting, Inc., Leased Workers from Sizemore, Cochran, GA: March 11, 2009

TA-W-72,597: GE Healthcare Systems, Leased Workers from Adecco, Milwaukee, WI: October 12, 2008

TA-W-72,623: Alienware Corporation, A Subsidiary of Dell, Inc., Miami, FL: October 16, 2008

TA-W-73,390: Mahoning Glass Plant, GE Appliances and Lighting Div., General Electric, Niles, OH: March 29, 2010

TA-W-71,398: Yazaki North America, Inc., Leased Workers from Kelly Services, Universal Staffing, Omnisource etc., Canton, MI: June 4, 2008

TA-W-72,221A: AEES, Inc., El Paso, TX: August 24, 2008

TA-W-72,221: AEES, Inc., San Antonio, TX: August 24, 2008

TA-W-72,390: Acme Electric, Actuant Corp., Leased Workers from Enterforce & Temporary Design etc., Spring Grove, IL: October 23, 2009

TA-W-72,507: Cypress Semiconductor Corporation, Human Resources Department, Leased Workers of Doherty Staffing Solutions, San Jose, CA: October 5, 2008

TA-W-72,810: Durez Corporation, Research & Development Div., Sumitomo Bakelite North America Holding, North Tonawanda, NY: November 4, 2008

TA-W-72,848A: Ingersoll-Rand PLC, Residential Solutions, Formerly Doing Business as Trane Engineering Service, Fort Smith, AR: November 13, 2008

TA-W-72,848: Ingersoll-Rand PLC, Residential Solutions, Formerly Doing Business as Trane Engineering Service, Tyler, TX: November 13, 2008

TA-W-72,877A: Avaya Inc., Avaya Professional Services (APS), Avaya Worldwide Services Group, Highlands Ranch, CO: November 12, 2008

TA-W-72,877B: Avaya Inc., Avaya Professional Services (APS), Avaya Worldwide Services Group, Southfield, MI: November 12, 2008

TA-W-72,877C: Avaya Inc., Avaya Professional Services (APS), Avaya Worldwide Services Group, Coppell, TX: November 12, 2008

TA-W-72,877D: Avaya Inc., Avaya Professional Services (APS), Avaya Worldwide Services Group, Westminster, CO: November 12, 2008

TA-W-72,877E: Avaya Inc., Avaya Professional Services (APS), Avaya Worldwide Services Group, Bellevue, WA: November 12, 2008

TA-W-72,877F: Avaya Inc., Avaya Professional Services (APS), Avaya Worldwide Services Group, Indianapolis, IN: November 12, 2008

TA-W-72,877G: Avaya Inc., Avaya Professional Services (APS), Avaya Worldwide Services Group, Herndon, VA: November 12, 2008

TA-W-72,877H: Avaya Inc., Avaya Professional Services (APS), Avaya Worldwide Services Group, Drexel Hill, PA: November 12, 2008

TA-W-72,877I: Avaya Inc., Avaya Professional Services (APS), Avaya Worldwide Services Group, Reston, VA: November 12, 2008

TA-W-72,877J: Avaya Inc., Avaya Professional Services (APS), Avaya Worldwide Services Group, Milpitas, CA: November 12, 2008

TA-W-72,877K: Avaya Inc., Avaya Professional Services (APS), Avaya Worldwide Services Group, Chelmsford, MA: November 12, 2008

TA-W-72,877L: Avaya Inc., Avaya Professional Services (APS), Avaya Worldwide Services Group, Overland Park, KS: November 12, 2008

TA-W-72,877M: Avaya Inc., Avaya Professional Services (APS), Avaya Worldwide Services Group, Norfolk, VA: November 12, 2008

TA-W-72,877N: Avaya Inc., Avaya Professional Services (APS), Avaya Worldwide Services Group, King of Prussia, PA: November 12, 2008

TA-W-72,877O: Avaya Inc., Avaya Professional Services (APS), Avaya Worldwide Services Group, Alpharette, GA: November 12, 2008

TA-W-72,877P: Avaya Inc., Avaya Professional Services (APS), Avaya Worldwide Services Group, Norcross, GA: November 12, 2008

TA-W-72,877Q: Avaya Inc., Avaya Professional Services (APS), Avaya Worldwide Services Group, Chesire, CT: November 12, 2008

TA-W-72,877R: Avaya Inc., Avaya Professional Services (APS), Avaya Worldwide Services Group, Tampa, FL: November 12, 2008

TA-W-72,877S: Avaya Inc., Avaya Professional Services (APS), Avaya Worldwide Services Group, St. Petersburg, FL: November 12, 2008

TA-W-72,877: Avaya Inc., Avaya Professional Services (APS), Avaya Worldwide Services Group, Basking Ridge, NJ: November 12, 2008

TA-W-73,066: Nortel Networks, Departments CA23 And 3R30, Research Triangle Park, NC: December 9, 2008

TA-W-73,118: The Regulus Group, Div. 3i Infotech DBA First Remittance Processing, Leased Workers from Spherion, Louisville, KY: December 16, 2008

TA-W-73,127: Freescale Semiconductor, Inc., Microcontroller Solutions Group (MSG), Austin, TX: December 9, 2008

TA-W-73,200: Sabre Holdings, Inc., Travel Network Billing Department, Southlake, TX: December 31, 2008

TA-W-73,233: The Berry Company LLC, Local Insight Media Holdings, Local Insight Yellow Pages, Lease Workers Kelly, Hudson, OH: January 7, 2009

TA-W-73,244: Sears Holdings Management Corporation, Dallas Support Center, Leased Workers from Snelling, Dallas, TX: January 11, 2009

TA-W-73,295: Weatherford International Ltd., Shared Services Division, Benbrook, TX: January 14, 2009

TA-W-73,355: EMC Corporation, Information Infrastructure Products, Ionix Software Engineers, Hopkinton, MA: January 18, 2009

TA-W-73,506: Allstate Insurance Company, Allstate Financial Annuity Contact Center, Kelly, Lincoln, NE: February 11, 2009

TA-W-73,639: Bimbo Bakeries USA, Inc., Financial Shared Services, Grupo Bimbo, Leased Workers of Appleone, Houston, TX: January 28, 2009

TA-W-73,645: Bimbo Bakeries USA, Inc., Financial Shared Services, Grupo Bimbo, Leased Workers Comet Employment Agency, Montebello, CA: January 28, 2009

TA-W-73,670: Bimbo Bakeries USA, Inc., Financial Shared Services Office, Grupo Bimbo S.A.B DE C. V., Fort Worth, TX: January 28, 2009

TA-W-73,725: Michaels Stores Inc., Information Systems, Irving, TX: March 10, 2009

TA-W-72,163: Direct Brands, Inc., a Subsidiary of JMCK Corporation, Indianapolis, IN: August 28, 2008

TA-W-72,286: Unisys Corporation, Technology Bus. Unisys Infor., Fka Bett, Leased Workers Hexaware Technologies, Plymouth, MI: September 11, 2008

TA-W-72,724: Freedom Eastern North Carolina Communications, Inc., dba The Daily News, Accounting Division, Jacksonville, NC: October 28, 2008

TA-W-73,039: OCE Imagistics Inc., Oracle Support Team, Trumbull, CT: November 26, 2008

TA-W-73,196: GMAC Insurance Management Corporation, Billing Division, Leased Workers from Comsys, Indox Services etc., Maryland Heights, MO: December 29, 2008

TA-W-73,226: Freedom Colorado Information, Inc., dba The Gazette, Finance Division, Colorado Springs, CO: January 6, 2009

TA-W-73,237: Ashland, Inc., Accounts Payable Division, Leased Workers from Express Personnel, Dublin, OH: January 11, 2009

TA-W-73,394: Varco Pruden Buildings, Design and Detail Department, Subsidiary of Bluescope, Evansville, WI: January 26, 2009

The following certifications have been issued. The requirements of Section 222(c) (supplier to a firm whose workers are certified eligible to apply for TAA) of the Trade Act have been met.

TA-W-71,252: Mold Base Industries, Harrisburg, PA: June 15, 2008

TA-W-71,569: BBI, Sidney, OH: June 24, 2008

TA-W-71,575: A-Stamp Industries, Bryan, OH: July 6, 2008

TA-W-71,627: Circuit Board Express, Inc., Haverhill, MA: July 6, 2008

TA-W-71,642: SPS Technologies Waterford Company, Waterford, MI: July 8, 2008

TA-W-71,759: Meridian Automotive Systems, Inc., Shelbyville, IN: July 3, 2008

TA-W-72,040: Therm-O-Disc, Inc., Emerson Electric Co., Leased Workers of Kelly Services, Mansfield, OH: August 10, 2008

TA-W-72,063: Outokumpu Stainless Plate, Inc., New Castle, IN: August 17, 2008

TA-W-72,136: EMF Corporation, Burkesville, KY: 8/25/2008

TA-W-72,425: Duro-Life Corporation, A Division of Wells Manufacturing Company, Leased Workers of and Staffing, Algonquin, IL: September 25, 2008

TA-W-72,551: American Tube and Paper Company, Totowa, NJ: October 7, 2008

TA-W-72,690: Whirlaway Cincinnati, A Subsidiary of Whirlaway Corporation, Hamilton, OH: October 1, 2008

TA-W-72,776: Masters Tool & Die, Inc., Saginaw, MI: October 14, 2008

TA-W-72,961: Inteva Products, LLC, Adrian, MI: November 3, 2008

TA-W-73,250: Stein Steel Mill Services, Inc., Working On-Site at United States Steel Corporation, Granite City, IL: July 8, 2008

TA-W-73,324A: Toyota Tsusho America, Inc., 41460 & 41320 Boyce Rd., Leased Workers Benchmark, Performance Staffing, Fremont, CA: January 19, 2009

TA-W-73,324: Toyota Tsusho America, Inc., Working on-site at New United Motor Manufacturing, Inc., Fremont, CA: January 19, 2009

TA-W-73,545: TG California Automotive Sealing Inc., Toyoda Gosei Co., Leased Workers from Aerotek Processional Services, Hayward, CA: February 22, 2009

TA-W-73,614: Technimark, LLC, Leased Workers of Mega Force Staffing Group, Fayetteville, NC: February 26, 2009

TA-W-71,726: Design Systems, Incorporated, Leased Workers from 3P Engineering Services etc., Farmington Hills, MI: July 10, 2008

TA-W-72,504: Penske Logistics, LLC, Penske Truck Leasing Company L.P., Leased Workers from Randstad and Transforce, Spring Hill, TN: October 2, 2008

TA-W-72,699: EMCOR Facility Services, On-Site at Dell Products, LP, Winston Salem, NC: October 27, 2008

TA-W-73,136: Everett Sales, Inc., Fort Payne, AL: December 16, 2008

The following certifications have been issued. The requirements of Section 222(c) (downstream producer for a firm whose workers are certified eligible to apply for TAA) of the Trade Act have been met.

TA-W-71,682: Eaton Aeroquip, LLC, Division of Fluid Conveyance, Leased Workers from Manpower, Van Wert, OH: July 13, 2008

TA-W-73,216: Penske Logistics LLC, A Wholly Owned Subsidiary of Penske Truck Leasing Company, LP, Evansville, IN: January 5, 2009

TA-W-73,646: International Automotive Components, Warren, MI: March 1, 2009

The following certifications have been issued. The requirements of Section 222(f) (firms identified by the International Trade Commission) of the Trade Act have been met.

TA-W-72,948: Cooper Tire & Rubber Company, Cedar Rapids, IA: June 25, 2008

Negative Determinations For Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-72,171: Hawker Beechcraft Corporation, Wichita, KS

TA-W-73,384: B & K Trucking, Iraan, TX

The investigation revealed that the criteria under paragraphs (a)(2)(A)(i) (decline in sales or production, or both) and (a)(2)(B) (shift in production or services to a foreign country) of section 222 have not been met.

TA-W-72,983: R&M Manufacturing, Inc., Milton, WI

The investigation revealed that the criteria under paragraphs (a)(2)(A) (increased imports) and (a)(2)(B) (shift in production or services to a foreign country) of section 222 have not been met.

TA-W-71,032: Agy Holding Corporation, Huntingdon, PA

TA-W-71,261: Interlake Material Handling, Naperville, IL

TA-W-71,503: ArcelorMittal Riverdale Inc., A Subsidiary of ArcelorMittal USA, Inc., Leased Workers of Adecco and Ivara, Riverdale, IL

TA-W-71,665: Future Visions, Micron Technology, Manassas, VA

TA-W-71,895: Warn Industries, Inc., a Subsidiary of Dover Corporation, Clackamas, OR

TA-W-72,264: Greenway Lumber Company, Waynesboro, TN

TA-W-72,369: Gentex Corporation, Carbondale, PA

TA-W-72,614: Parker-Hannifin Corporation, Cylinder Division, Portland, OR

TA-W-72,666: Kerry, Inc., Sweet Systems and Flavors Division, aka Kerry Ingredients and Flavors, Tualatin, OR

TA-W-72,737: General Electric Company, Transportation Division, Emporium, PA

TA-W-72,787: Visual Systems Inc., DBA Lehigh Phoenix, A Subsidiary of Visant Corporation, Leased Workers of Site Staffing, Inc., etc, Milwaukee, WI

TA-W-72,927: IC Bus, LLC, Subsidiary of Navistar, Inc., Conway, AR

TA-W-72,997: Precedent Furniture, Division of Sherrill, Leased Workers from the People Connection, Newton, NC

TA-W-73,175: Caraco Pharmaceutical Laboratories, Ltd., Sun Pharmaceutical Industries, Ltd., Leased Workers from Select Staffing, Detroit, MI

TA-W-73,186: The North Carolina Moulding Company, Lexington, NC

TA-W-73,416: Desoto Mills, LLC, Fruit of the Loom, Fort Payne, AL

TA-W-71,486: Northwest Metals, Inc., Okolona, OH

TA-W-72,008: Metro One Telecommunications Inc., Beaverton, OR

TA-W-72,341: Services Parts Operations (SPO)—Columbus, Subsidiary of General Motors Company, Groveport, OH

TA-W-72,458: Veeder-Root Company, Danaher Corporation, Altoona, PA

TA-W-72,644: C & R Oilfield Services, Inc., San Angelo, TX

TA-W-72,661: Air Comp, LLC, San Angelo, TX

TA-W-72,684: McMullin Chevrolet Pontiac Oldsmobile, Inc., Dallas, OR

TA-W-72,709: Master Lock Company, LLC, A Division of Fortune Brands, Inc., Milwaukee, WI

TA-W-72,741: Landmark Automotive LLC, Lawrenceburg, TN

TA-W-73,060: Harley-Davidson Motor Company Operations, Inc., York, PA

TA-W-73,099: Siemens Medical Solutions USA, Inc., Working on-site at Jefferson Regional Medical Center, Pittsburgh, PA

TA-W-73,223: American Bridge Manufacturing, Reedsport, OR

TA-W-73,317: Sappi Fine Paper N.A., SPPI Ltd., Leased Workers from Alternative Solutions, Manpower and Adecco, South Portland, ME

TA-W-73,323: US Airways, Inc., Passenger Service agents, Pittsburgh International Airport, Pittsburgh, PA

TA-W-73,328: Sandy Corporation, General Physics Corporation, Troy, MI

TA-W-73,369: Key Energy Pressure Pumping Services, LLC, Midland, TX

TA-W-73,407: Express Energy Services Operating, L.P., San Angelo, Texas Division, San Angelo, TX

TA-W-73,454: Ickes Chevrolet Cadillac Company, Inc., Robinson, IL

TA-W-73,521A: Citizens Gas Utility District, Wartburg, TN

TA-W-73,521B: Citizens Gas Utility District, Deerlodge, TN

TA-W-73,521: Citizens Gas Utility District, Helenwood, TN

TA-W-73,536: Allstate Insurance Company, Altoona Express Market Claim Office, Kelly, Altoona, PA

TA-W-73,597: Tandy Brands Accessories, Inc., Yoakum Distribution Center, Yoakum, TX

TA-W-73,784A: Ferrania USA, Inc., D/B/A Ferrania Technologies, St. Paul, MN

TA-W-73,784: Ferrania USA, Inc., D/B/A Ferrania Technologies, Weatherford, OK

TA-W-73,785: Ferrania USA, Inc., D/B/A Ferrania Technologies, Murrow, OH

TA-W-73,786: Ferrania USA, Inc., D/B/A Ferrania Technologies, Lake Worth, FL

TA-W-73,787: Ferrania USA, Inc., D/B/A Ferrania Technologies, Eagan, MN

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-70,982: Rexam Beverage Can Company, Oklahoma City, OK

TA-W-71,468: Electronic Data Systems, Auburn Hills, MI

TA-W-71,718: DSFI, Honesdale, PA

TA-W-71,984: Seagroatt Floral Company, Inc., Albany, NY

TA-W-72,255: Optimal, Inc. and Populus Group, Working on-site at General Motors Tech Center in Warren, MI, Warren, MI

TA-W-72,387: Sony Electronics, Inc., Dothan, AL

TA-W-72,986: Wardwell Braiding Machine Company, Central Falls, RI

TA-W-73,038: Vaquero Services, LP, Godley, TX

TA-W-73,044: Avaya Inc., Avaya Worldwide Services Group, Global Support Services (GSS) Organization, Coppell, TX

TA-W-73,051: Maco, Inc., Shelby, NC

TA-W-73,115: Solvay Advanced Polymers, Marietta, OH

TA-W-73,188: Hagemeyer North America, working on Site at Cummis Filtration, Lake Mills, IA

TA-W-73,439: A&S Building Systems, A Division NCI Building Systems, Inc., Rocky Mount, NC

TA-W-73,572: Track Corporation, Spring Lake, MI

TA-W-73,580: Rotodie Company, Inc., dba Rotometrics, Meadows of Dan, VA

TA-W-73,653: Heartland Companies, LTD., San Francisco, CA

TA-W-73,678: NPA Coatings, Inc., Leased from New United Motor Manufacturing, Inc., Fremont, CA

TA-W-73,699: ABM Janitorial, Sacramento, CA

TA-W-73,720: Apria Healthcare, Irving, TX

TA-W-73,852: General Motors Corporation, Vehicle Manufacturing Division, Shreveport Assembly Plant, Shreveport, LA

TA-W-73,858: Hugo Boss Cleveland, Inc., Brooklyn, OH

I hereby certify that the aforementioned determinations were issued during the period of April 26, 2010 through May 7, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: May 21, 2010.
Elliott S. Kushner,
Certifying Officer, Division of Trade Adjustment Assistance.

[FR Doc. 2010-12890 Filed 5-27-10; 8:45 am]

BILLING CODE 4510-FN-P